ENVIRONMENTAL PROTECTION AGENCY

[FRL-9815-6]

Access to Confidential Business Information by ABT Associates, Incorporated; Perry Johnson Registrars, Inc.; SGS North America, Inc.; SAI Global, Inc.; Orion Registrar, Inc.; NSF-ISR International, and TÜV SÜD America, Inc.

AGENCY: Environmental Protection Agency (EPA).

ACTION: Notice of Access to Data and Request for Comments.

SUMMARY: EPA will authorize its contractor ABT Associates, Incorporated (ABT) and six (6) auditing organizations: Perry Johnson Registrars, Inc.; SGS North America, Inc.; SAI Global; Orion Registrar, Inc.; NSF-ISR International, and TÜV SÜD America, Inc., also known as the “Certifying Bodies”, to access Confidential Business Information (CBI) which has been submitted to EPA under the authority of all sections of the Resource Conservation and Recovery Act (RCRA) of 1976, as amended. EPA has issued regulations that outline business confidentiality provisions for the Agency and require all EPA Offices that receive information designated by the submitter, as CBI to abide by these provisions.

DATES: Access to confidential data submitted to EPA will occur no sooner than May 30, 2013.

FOR FURTHER INFORMATION CONTACT: LaShan Haynes, Document Control Officer, Office of Resource Conservation and Recovery, (5305P), U.S. Environmental Protection Agency, 1200 Pennsylvania Avenue NW., Washington, DC 20460, 703-605-0516.

SUPPLEMENTARY INFORMATION:

1. Access to Confidential Business Information

Under EPA Contract No. EP-W-10-10054, Task Order 54, ABT Associates, Incorporated will provide technical support to the Office of Resource Conservation and Recovery (ORCR), Resource Conservation and Sustainability Division (RCSD) as it conducts a study of the implementation of two currently used electronics recycling certification programs in the U.S.: The Responsible Recycling Practices (R2) and e-Stewards Standard for Responsible Recycling and Reuse of Electronic Equipment (e-Stewards). Contractor support from ABT will be required as interviews with stakeholders are conducted; observation of approximately nine (9) audits of electronic recycling facilities being voluntarily performed by the Certifying Bodies, who are authorized to certify the standards. ABT will assist with developing a report identifying the areas of strength in the programs and implementation process and recommend any improvements where appropriate. Some of the data collected voluntarily from the facilities, may be claimed by industry to contain auditing tools, ownership/operation agreements, amounts and types of e-waste processed; and environmental health and safety plans; and asset destruction methods and policies. In accordance with the provisions of 40 CFR part 2, subpart B, ORCR has established policies and procedures for handling information collected from industry, under the authority of RCRA, including RCRA Confidential Business Information Security Manuals. ABT Associates, Incorporated shall protect from unauthorized disclosure all information designated as confidential and shall abide by all RCRA CBI requirements, including procedures outlined in the RCRA CBI Security Manual. The U.S. Environmental Protection Agency has issued regulations (40 CFR Part 2, Subpart B) that outline business confidentiality provisions for the Agency and require all EPA Offices that receive information designated by the submitter as CBI to abide by these provisions. ABT Associates, Incorporated and the Certifying Bodies will be authorized to have access to RCRA CBI under the EPA “Contractor Requirements for the Control and Security of RCRA Confidential Business Information Security Manual.”

EPA is issuing this notice to inform all submitters of information under all sections of RCRA that ABT Associates, Incorporated, and the Certifying Bodies, under the contract may have access to RCRA CBI. Access to RCRA CBI under this contract will take place at ABT Associates facility located in Bethesda, Maryland, and when necessary, EPA Headquarters only. Contractor personnel at each location will be required to sign non-disclosure agreements and will be briefed on appropriate security procedures before they are permitted access to confidential information.

Dated: May 1, 2013.
Suzanne Rudzinski,
Director, Office of Resource Conservation & Recovery.

[FR Doc. 2013-11975 Filed 5-17-13; 8:45 am]

BILLING CODE 6560-50-P